DEPARTMENT OF COMMERCE

[Docket No.: 150902800-5999-02]

Privacy Act of 1974, New System of Records

AGENCY: National Oceanic and Atmospheric Administration, U.S. Department of Commerce.

ACTION: Notice of Privacy Act System of Records: COMMERCE/NOAA-11, Contact Information for Members of the Public Requesting or Providing Information Related to NOAA's Mission.

SUMMARY: The Department of Commerce publishes this notice to announce the effective date of a Privacy Act System of Records notice entitled “Notice of Privacy Act System of Records: COMMERCE/NOAA-11, Contact Information for Members of the Public Requesting or Providing Information Related to NOAA's Mission.”

DATES: The system of records becomes effective on November 23, 2015.

ADDRESSES: For a copy of the system of records please mail requests to: Sarah Brabson, NOAA Office of the Chief Information Officer, Room 9856, 1315 East-West Highway, Silver Spring, MD 20910.

FOR FURTHER INFORMATION CONTACT: Sarah Brabson, NOAA Office of the Chief Information Officer, Room 9856, 1315 East-West Highway, Silver Spring, MD 20910.

SUPPLEMENTARY INFORMATION: On October 9, 2015 (80 FR 61160), the Department of Commerce published a notice in the Federal Register, entitled “Notice of Privacy Act System of Records: COMMERCE/NOAA-11, Contact Information for Members of the Public Requesting or Providing Information Related to NOAA's Mission,” requesting comments on a proposed new system of records. No comments were received in response to the request for comments. By this notice, the Department of Commerce is adopting the proposed system as final without changes effective November 23, 2015.

Dated: November 17, 2015.
Michael J. Toland,
Freedom of Information and Privacy Act Officer, Department of Commerce.

[FR Doc. 2015-29831 Filed 11-20-15; 8:45 am]

BILLING CODE 3510-22-P